DEPARTMENT OF HOMELAND SECURITY

Coast Guard

[Docket No. USCG-2021-0633]

National Towing Safety Advisory Committee; December 2021 Teleconference

AGENCY: Coast Guard, Department of Homeland Security.

ACTION: Notice of Federal Advisory Committee teleconference meeting.

SUMMARY: The National Towing Safety Advisory Committee (Committee) will meet via teleconference to discuss the election of officers, issuance of new task statements, and stand-up of the Task Statement Vetting Committee. The Committee will also discuss new tasking to include the draft final report for Towing Safety Advisory Committee Task 16-01, Subchapter M Implementation, Workgroup Item #1 that sought to identify the parameters Coast Guard officials should use to determine whether a vessel inspected under subchapters other than Subchapter M is performing “Occasional Towing”. The meeting will be open to the public.

DATES:

Meeting: The Committee will hold its inaugural meeting by teleconference on Tuesday, December 7, 2021, from 10 a.m. until 1 p.m. Eastern Standard Time. Please note the teleconference may close early if the Committee has completed its business.

Comments and supporting documents: To ensure your comments are reviewed by Committee members before the teleconference, submit your written comments no later than December 1, 2021.

ADDRESSES: To join the teleconference or to request special accommodations, contact the individual listed in the FOR FURTHER INFORMATION CONTACT section no later than 1 p.m. on December 1, 2021, to obtain the needed information. The number of teleconference lines are limited and will be available on a first-come, first-served basis.

Instructions: You are free to submit comments at any time, including orally at the teleconference, but if you want Committee members to review your comments before the teleconference, please submit your comments no later than December 1, 2021. We are particularly interested in comments on the issues in the “Agenda” section below. We encourage you to submit comments through the Federal Decision Making Portal at https://www.regulations.gov. If your material cannot be submitted using https://www.regulations.gov call or email the individual in the FOR FURTHER INFORMATION CONTACT section of this document for alternate instructions. You must include the docket number [USCG-2021-0633]. Comments received will be posted without alteration at https://www.regulations.gov, including any personal information provided. You may wish to review the Privacy and Security notice available on homepage of https://www.regulations.gov and DHS's eRulemaking System of Records notice (85 FR 14226, March 11, 2020). If you encounter technical difficulties with comment submission, contact the individual listed in the FOR FURTHER INFORMATION CONTACT section of this notice.

Docket Search: Documents mentioned in this notice as being available in the docket, and public comments, will be in our online docket at https://www.regulations.gov and can be viewed by following that website's instructions.

FOR FURTHER INFORMATION CONTACT: Mr. Matthew D. Layman, Designated Federal Officer of the National Towing Safety Advisory Committee, 2703 Martin Luther King Jr. Ave. SE, Stop 7509, Washington, DC 20593-7509, telephone 202-372-1421, fax 202-372-1421 or Matthew.D.Layman@uscg.mil.

SUPPLEMENTARY INFORMATION: Notice of this meeting is given in accordance with the Federal Advisory Committee Act (5 U.S.C. appendix). The National Towing Safety Advisory Committee was established on December 4, 2018, by section 601 of the Frank LoBiondo Coast Guard Authorization Act of 2018 (Pub. L. 115-282, 132 Stat. 4192). That authority is codified in 46 U.S.C. 15108. The Committee operates under the provisions of the Federal Advisory Committee Act and, in addition, the administrative provisions of 46 U.S.C. 15109. The Committee provides advice and recommendations to the Department of Homeland Security on matters related to shallow-draft inland navigation, coastal waterway navigation, and towing safety.

Agenda

The agenda for the December 7, 2021, teleconference meeting is as follows:

(1) Call to Order.

(2) Roll call and determination of quorum.

(3) Opening Remarks.

(4) Swearing-in of new members.

(5) Election by Committee members of the Chairperson and Vice Chairperson.

(6) Establishment of the Task Statement Vetting Committee.

(7) Issuance of New Task Statements.

(8) Review of Draft Final Report for legacy Task 16-01: Subchapter M Implementation, Workgroup Item #1- Criteria Used to Apply the Term “Occasional Towing.

(9) Update from the Office of Commercial Vessel Compliance on the status of Subchapter M Implementation.

(10) Update from the Towing Vessel National Center of Expertise.

(11) Public Comment period.

A copy of all pre-meeting documentation will be available at https://www.dco.uscg.mil/Our-Organization/Assistant-Commandant-for-Prevention-Policy-CG-5P/Commercial-Regulations-standards-CG-5PS/Office-of-Operating-and-Environmental-Standards/vfos/TSAC/. Alternatively, you may contact Mr. Matthew Layman as noted in the FOR FURTHER INFORMATION CONTACT section above.

During the December 7, 2021 teleconference, a public comment period will be held from approximately 12:30 p.m. to 1 p.m. Eastern Standard Time. Speakers are requested to limit their comments to 3 minutes. Please note that this public comment period may start before 12:30 p.m. if all other agenda items have been covered and may end before 1 p.m. if all of those wishing to comment have done so.

Please contact Mr. Matthew D. Layman, listed in the FOR FURTHER INFORMATION CONTACT section to register as a speaker.

Dated: November 16, 2021.
Jeffrey G. Lantz,
Director of Commercial Regulations and Standards.

[FR Doc. 2021-25328 Filed 11-19-21; 8:45 am]

BILLING CODE 9110-04-P